DEPARTMENT OF JUSTICE

Antitrust Division

Notice Pursuant to the National Cooperative Research and Production Act Oo 1993—ODVA, Inc.

Notice is hereby given that, on October 8, 2025, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances. Specifically, Transcend Communication Beijing Co., Ltd., Beijing, PEOPLE'S REPUBLIC OF CHINA; UnitX, Inc, Milpitas, CA; HQ Scales, Inc., Sterling, IL; ASSA ABLOY Entrance Systems Germany GmbH, Wennigsen (Deister), FEDERAL REPUBLIC OF GERMANY; Therma-Tron-X, Inc., Sturgeon Bay, WI; Antaira Technologies Co. Ltd., New Taipei City, REPUBLIC OF CHINA (TAIWAN); and Shanghai Quicktron Automation Technology Co., Ltd., Shanghai, PEOPLE'S REPUBLIC OF CHINA, have been added as parties to this venture.

Also, XP Power LLC, Gloucester, MA; Control Technology Incorporated, Knoxville, TN; ESYSE GmbH Embedded Systems Engineering, Meerbusch, FEDERAL REPUBLIC OF GERMANY; Doosan Robotics Inc., Suwon-si, REPUBLIC OF KOREA; SWCC Corporation, Kawasaki, JAPAN; HMS/BU Ewon, Nivelles, KINGDOM OF BELGIUM; and Zhejiang Hechuan Technology Co., Ltd., Quzhou City, PEOPLE'S REPUBLIC OF CHINA, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on July 14, 2025. A notice was published in the Federal Register pursuant to section 6(b) of the Act on August 15, 2025 (90 FR 39421).

Suzanne Morris,
Deputy Director Civil Enforcement Operations, Antitrust Division.

[FR Doc. 2025-24186 Filed 12-31-25; 8:45 am]

BILLING CODE P